DEPARTMENT OF COMMERCE

National Institute of Standards and Technology

Information Collection Activities; Submission to the Office of Management and Budget (OMB) for Review and Approval; Comment Request; CHIPS Full-Application Information Collection

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on Wednesday, April 12, 2023, during a 60-day comment period. This notice allows for an additional 30 days for public comments.

Agency: National Institute of Standards and Technology (NIST), Commerce.

Title: CHIPS Full-application Information Collection.

OMB Control Number: 0693-0094.

Form Number(s): None.

Type of Request: Regular.

Number of Respondents: 140.

Average Hours per Response: 125 hours.

Burden Hours: 17,500 hours.

Needs and Uses: Businesses and other entities applying for CHIPS Act funding under the CHIPS Incentive Program must submit a full application via a form available at https://applications.chips.gov/, which includes:

• Cover Page

• Covered Incentive

• Description of Project(s)

• Applicant Profile

• Alignment with Economic and National Security Objectives

• Commercial Strategy

• Financial Information

• Project Technical Feasibility

• Organization Information

• Workforce Development Plan

• Broader Impacts

• Standard Forms

Affected Public: Business or other for-profit organizations.

Frequency: Once.

Respondent's Obligation: Mandatory to be eligible for CHIPS Act funding.

Legal Authority: CHIPS Act of 2022 (Division A of Pub. L. 117-167) (the Act).

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0693-0094.

Sheleen Dumas,
Department PRA Clearance Officer, Office of the Under Secretary for Economic Affairs, Commerce Department.

[FR Doc. 2023-19190 Filed 9-5-23; 8:45 am]

BILLING CODE 3510-13-P